DEPARTMENT OF HEALTH AND HUMAN SERVICES

Office of the Secretary

[Document Identifier 0990-0416-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0990-0416, scheduled to expire on March 31, 201. Comments submitted during the first public review of this ICR will be provided to OMB. OMB will accept further comments from the public on this ICR during the review and approval period.

DATES: Comments on the ICR must be received on or before April 10, 2017.

ADDRESSES: Submit your comments to OIRA_submission@omb.eop.gov or via facsimile to (202) 395-5806.

FOR FURTHER INFORMATION CONTACT: Information Collection Clearance staff, Information.CollectionClearance@hhs.gov or (202) 795-7714.

SUPPLEMENTARY INFORMATION: When submitting comments or requesting information, please include the document identifier 0990-0416-30D for reference.

Information Collection Request Title: Pregnancy Assistance Fund (PAF) Performance Measures Collection.

OMB No.: 0990-0416.

Abstract: The Office of Adolescent Health (OAH), U.S. Department of Health and Human Services (HHS), is requesting an extension of a currently approved information collection request by OMB. The purpose of the renewal is to extend the period of collection through March 31, 2018 to complete the collection of the Pregnancy Assistance Fund (PAF) Performance Measures from grantees funded in August 2013, and to allow for data collection from 3 new PAF grantees funded in July 2015, increasing the number of respondents from 17 to 20. There are no changes to the data to be collected.

Need and Proposed Use of the Information: OAH will use the performance data to inform planning and resource allocation decisions; identify technical assistance needs; and provide Congress, OMB, and the general public with information about the individuals who participate in PAF-funded activities and the services they receive.

Likely Respondents: 20 PAF grantees (States and Tribes).

The total annual burden hours estimated for this ICR are summarized in the table below.

Total Estimated Annualized Burden—584 Hours
Form name | Number of respondents | Number of responses per respondent | Average burden per response (in hours) | Total burden hours
Participant & Partner Characteristics (16 measures) | 20 | 1 | 19 | 380
Category 1 Measures (5 measures) | 3 | 1 | 6 | 18
Category 2 Measures (7 measures) | 18 | 1 | 9 | 162
Category 3 Measures (3 measures) | 5 | 1 | 3 | 15
Category 4 Measures (1 measure) | 9 | 1 | 1 | 9
Total | 20 |  |  | 584

Terry S. Clark,
Asst. Information Collection Clearance Officer.

[FR Doc. 2017-04613 Filed 3-8-17; 8:45 am]

BILLING CODE 4168-11-P